UNITED STATES INSTITUTE OF PEACE

Sunshine Act; Notice of Meeting

AGENCY: United States Institute of Peace.

DATE/TIME: Thursday, November 20, 2003, 9:30 a.m.-5 p.m.

LOCATION: 1200 17th Street, NW., Suite 200—Conference Room, Washington, DC 20036.

STATUS: Open Session—Portions may be closed pursuant to Subsection (c) of Section 552(b) of Title 5, United States Code, as provided in subsection 1706(h)(3) of the United States Institute of Peace Act, Pub. L. 98-525.

AGENDA: November 2003 Board Meeting; Approval of Minutes of the One Hundred Eleventh Meeting (September 18, 2003) of the Board of Directors; Chairman's Report; President's Report; Program Reports; Other General Issues.

FOR FURTHER INFORMATION CONTACT: Ms. Tessie Higgs, Executive Office, Telephone: (202) 429-3836.

Dated: October 31, 2003.
Harriet Hentges,
Executive Vice President, United States Institute of Peace.

[FR Doc. 03-28208 Filed 11-5-03; 12:36 pm]

BILLING CODE 6820-AR-M